DEPARTMENT OF TRANSPORTATION

Federal Highway Administration

[Docket No. FHWA-2007-0008]

Agency Information Collection Activities: Request for Comments for Change to and Extension of Currently Approved Information Collection

AGENCY: Federal Highway Administration (FHWA), DOT.

ACTION: Notice and request for comments.

SUMMARY: The FHWA has forwarded the information collection request described in this notice to the Office of Management and Budget (OMB) for approval of changes to and extension of a currently approved information collection. We published a Federal Register Notice with a 60-day public comment period on this information collection on October 23, 2007. We are required to publish this notice in the Federal Register by the Paperwork Reduction Act of 1995.

DATES: Please submit comments by March 7, 2008.

ADDRESSES: You may send comments within 30 days to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2007-0008.

FOR FURTHER INFORMATION CONTACT: Gary Jensen, 202-366-2048, Office of Planning, Environment and Realty, HEP-2, Federal Highway Administration, Department of Transportation, 1200 New Jersey Avenue, SE., Washington, DC 20590. Office hours are from 7:30 a.m. to 4:30 p.m., Monday through Friday, except Federal holidays.

SUPPLEMENTARY INFORMATION: Title: National Scenic Byway Program.

OMB Control #: 2125-0611.

Form #: FHWA-1569, FHWA-1570, FHWA-1577.

Background: The National Scenic Byways Program was established under the Intermodal Surface Transportation Efficiency Act of 1991, and reauthorized in 1998 under the Transportation Equity Act for the 21st Century. Under the program, the U.S. Secretary of Transportation recognizes certain roads as National Scenic Byways or All-American Roads based on their archaeological, cultural, historic, natural, recreational, and scenic qualities. There are 126 such designated Byways in 44 states, which the FHWA promotes as the America's Byways. It is a voluntary, grassroots program that recognizes and supports outstanding roads while providing resources to help manage the intrinsic qualities within the broader Byway corridor to be treasured and shared. The vision of the FHWA's National Scenic Byways Program is “to create a distinctive collection of American roads, their stories, and treasured places.” The program's mission is to provide resources to the byway community in creating a unique travel experience and enhanced local quality of life through efforts to preserve, protect, interpret, and promote the intrinsic qualities of designated byways. Title 23, Section 162 of the United States Code describes the creation of the National Scenic Byways Program. This legislation was most recently amended in 2005 upon passage of the Public Law 109-59 Safe, Accountable, Flexible, and Efficient Transportation Equity Act—A Legacy for Users (SAFETEA-LU). The legislation includes provisions for review and dissemination of grant monies by the U.S. Secretary of Transportation. Grant applications are solicited on an annual basis. Eligible projects are on State designated byways, National Scenic Byways, All-American Roads, or Indian tribe scenic byways.

Applications are completed by Federal, State, or local governmental agencies; Tribal governments; and non-profit organizations. The application information is collected electronically via the online Grant system (http://www.grants.gov) and is used to determine project eligibility.

The legislation also includes information about the nomination of scenic byways to become one of America's Byways, a collection of distinct and diverse roads designated by the U.S. Secretary of Transportation. America's Byways include the National Scenic Byways and All-American Roads. Additional information on the National Scenic Byways Program, its grant program, and the nomination process is available at http://www.bywaysonline.org.

The total number of burden hours for this collection has changed. The grants applications forms were decreased to include only those forms that were created specifically for www.grants.gov. Also, the nominations cycle burden hours have been added.

Respondents

Grants Application Respondents: In a typical grants cycle, it is estimated that 400 applications will be received. Respondents include: 50 State Departments of Transportation, the District of Columbia and Puerto Rico (Right-of-Way Department), Federal Land Management Agencies, State and local governments, non-profit agencies, and Tribal Governments.

Frequency: Annual.

Estimated Average Burden per Response: 16 hours.

Nomination Respondents: Based on previous nomination cycles, it is estimated that a total of 75 nominations will be received, originating from any local government, including Indian tribal governments, or any private group or individual. Nominations may also originate from the U.S. Forest Service, the National Park Service, the Bureau of Land Management, or the Bureau of Indian Affairs.

Frequency: Every 2-3 years.

Estimated Average Burden per Response: 200 hours.

Estimated Total Annual Burden Hours: 11,400 hours.

Electronic Access: For access to the docket to read background documents or comments received, go to http://www.regulations.gov. Follow the online instructions for accessing the dockets.

Authority: The Paperwork Reduction Act of 1995; 44 U.S.C. Chapter 35, as amended; and 49 CFR 1.48.

Issued on: January 30, 2008.
James R. Kabel,
Chief, Management Programs and Analysis Division.

[FR Doc. E8-2168 Filed 2-5-08; 8:45 am]

BILLING CODE 4910-22-P